DEPARTMENT OF COMMERCE

International Trade Administration

[C-570-076]

Certain Plastic Decorative Ribbon From the People's Republic of China: Postponement of Preliminary Determination in the Countervailing Duty Investigation

AGENCY: Enforcement and Compliance, International Trade Administration, Department of Commerce.

DATES: Applicable March 12, 2018.

FOR FURTHER INFORMATION CONTACT: Maliha Khan at (202) 482-0895, AD/CVD Operations, Enforcement and Compliance, International Trade Administration, Department of Commerce, 1401 Constitution Avenue NW, Washington, DC 20230.

SUPPLEMENTARY INFORMATION:

Background

On January 16, 2018, the Department of Commerce (Commerce) initiated the countervailing duty (CVD) investigation of certain plastic decorative ribbon (plastic decorative ribbon) from the People's Republic of China.¹ Currently, the preliminary determination is due no later than March 26, 2018.²

¹ See Certain Plastic Decorative Ribbon from the People's Republic of China: Initiation of Countervailing Duty Investigation, 83 FR 3114 (January 23, 2018).

² Commerce has exercised its discretion to toll deadlines for the duration of the closure of the Federal Government from January 20 through 22, 2018. See Memorandum, “Deadlines Affected by the Shutdown of the Federal Government,” dated January 23, 2018 (Tolling Memorandum). Accordingly, all deadlines in this segment of the proceeding have been extended by three days.

Postponement of the Preliminary Determination

Section 703(b)(1) of the Tariff Act of 1930, as amended (the Act), requires Commerce to issue the preliminary determination in a CVD investigation within 65 days after the date on which Commerce initiated the investigation. However, section 703(c)(1)(A) of the Act permits Commerce to postpone the preliminary determination until no later than 130 days after the date on which Commerce initiated the investigation if a petitioner makes a timely request for a postponement. Under 19 CFR 351.205(e), a petitioner must submit a request for postponement 25 days or more before the scheduled date of the preliminary determination and must state the reason for the request. Commerce will grant the request unless it finds compelling reasons to deny the request.³

³ See 19 CFR 351.205(e).

On February 27, 2018, Berwick Offray, LLC (the petitioner) submitted a timely request pursuant to section 703(c)(1)(A) of the Act and 19 CFR 351.205(e) to postpone fully the preliminary determination. The petitioner stated that the purpose of its request was to provide Commerce with adequate time to solicit information from the respondents and to allow Commerce sufficient time to analyze respondents' questionnaire responses.⁴

⁴ See Letter from the petitioner to Commerce, “Certain Plastic Decorative Ribbon from the People's Republic of China: Request to Fully Extend Preliminary Determination,” dated February 27, 2018.

In accordance with 19 CFR 351.205(e), the reason for requesting a postponement of the preliminary determination and the record does not present any compelling reasons to deny the request. Therefore, in accordance with section 703(c)(1)(A) of the Act, and in light of the closure of the Federal Government from January 20 through 22, 2018, Commerce is postponing the deadline for the preliminary determination to May 29, 2018.⁵ Pursuant to section 705(a)(l) of the Act and 19 CFR 351.210(b)(1), the deadline for the final determination will continue to be 75 days after the date of the preliminary determination, unless postponed at a later date.

⁵ Note that the revised deadline reflect a full postponement to 130 days after the date on which this investigation was initiated, in addition to a three-day extension due to closure of the Federal Government.

This notice is issued and published pursuant to section 703(c)(2) of the Act and 19 CFR 351.205(f)(l).

Dated: March 6, 2018.
Gary Taverman,
Deputy Assistant Secretary for Antidumping and Countervailing Operations, performing the non-exclusive functions and duties of the Assistant Secretary for Enforcement and Compliance.

[FR Doc. 2018-04898 Filed 3-9-18; 8:45 am]

BILLING CODE 3510-DS-P